DEPARTMENT OF ENERGY

Notice of Availability of the Final Environmental Impact Statement for the Disposal of Greater-Than-Class C (GTCC) Low-Level Radioactive Waste and GTCC-Like Waste

AGENCY: Department of Energy.

ACTION: Notice of availability.

SUMMARY: The U.S. Department of Energy (DOE or Department) announces the availability of its Final Environmental Impact Statement for the Disposal of Greater-Than-Class C (GTCC) Low-Level Radioactive Waste and GTCC-Like Waste (Final EIS) (DOE/EIS-0375), prepared pursuant to the National Environmental Policy Act (NEPA). This Final EIS considered public comments, including a Comment Response Document that addresses all comments received on the Draft EIS. The U.S. Environmental Protection Agency (EPA) is a cooperating agency in the preparation of this EIS. The Final EIS evaluates the potential human health and environmental impacts of a range of reasonable alternatives for disposing of an estimated 12,000 cubic meters (m³) of waste, containing approximately 160 million curies of radioactivity. This includes GTCC low-level radioactive waste (LLRW) as defined by the Nuclear Regulatory Commission (NRC) in 10 CFR 72.3, i.e., “low-level radioactive waste that exceeds the concentration limits of radionuclides established for Class C waste in 10 CFR 61.55,” as well as GTCC-like waste which is DOE owned or generated LLRW and non-defense-generated transuranic radioactive waste having characteristics similar to GTCC LLRW and for which there may be no path to disposal. This Final EIS also identifies DOE's preferred alternative for the disposal of GTCC and GTCC-like waste at the Waste Isolation Pilot Plant (WIPP) geologic repository in New Mexico and land disposal at generic commercial facilities.

DATES: DOE will publish a Record of Decision no sooner than 30 days after publication of the U.S. EPA Notice of Availability in the Federal Register and not before Congressional Action as required by the Energy Policy Act of 2005 (Pub. L. 109-58).

ADDRESSES: This Final EIS is available on the DOE NEPA Web site at http://energy.gov/nepa and on the GTCC Web site at http://www.gtcceis.anl.gov. Copies of the Final EIS are also available in the public reading rooms and libraries listed in SUPPLEMENTARY INFORMATION. A printed summary and compact disc (CD) of the complete Final EIS or a complete printed copy of the Final EIS (approximately 4,198 pages) may be requested by sending an email to: gtcceis@anl.gov.

FOR FURTHER INFORMATION CONTACT: For further information about this Final EIS, please contact Ms. Theresa J. Kliczewski, GTCC EIS Document Manager, U.S. Department of Energy, Office of Disposition Planning & Policy (EM-32), 1000 Independence Avenue SW., Washington, DC 20585 or by email at gtcceis@anl.gov. For general information regarding the DOE NEPA process, please contact: Ms. Carol M. Borgstrom, Director, Office of NEPA Policy and Compliance (GC-54), U.S. Department of Energy, 1000 Independence Avenue SW., Washington, DC 20585, Telephone: (202) 586-4600, or leave a message at (800) 472-2756.

SUPPLEMENTARY INFORMATION:

Background

Section 3(b)(1)(D) of the Low-Level Radioactive Waste Policy Amendments Act (LLRWPAA) of 1985 (Pub. L. 99-240) makes the U.S. Federal Government responsible for the disposal of GTCC LLRW that results from NRC and Agreement State licenses. The LLRWPAA also specified in Section 3(b)(2) that such waste be disposed of in a facility licensed by NRC. DOE is the Federal agency responsible for the disposal of GTCC LLRW. GTCC LLRW is LLRW that has radionuclide concentrations that exceed the limits for Class C LLRW provided in 10 CFR 61.55.

This Final EIS also addresses GTCC-like waste which is DOE owned or generated LLRW and non-defense-generated transuranic radioactive waste having characteristics similar to GTCC LLRW and for which there may be no path to disposal. The NRC LLRW waste classification system in 10 CFR 61.55 does not apply to radioactive waste generated or owned by DOE and disposed of in DOE facilities. DOE evaluates GTCC-like waste in the Final EIS because similar approaches may be used to dispose of both GTCC LLRW and GTCC-like waste. DOE's proposed action is therefore to construct and operate a new facility or facilities, or use an existing facility or facilities, for the disposal of GTCC LLRW and GTCC-like waste. The Final EIS evaluates alternative methods for disposal of these wastes at various alternative locations, evaluates generic commercial disposal sites in four regions of the U.S., and a “No Action Alternative” as required under NEPA.

Types and Estimated Quantities of GTCC LLRW and GTCC-Like Wastes

The total inventory volume of GTCC LLRW and GTCC-like waste evaluated in the Final EIS is about 12,000 m³, and is estimated to contain approximately 160 million curies of radioactivity. Of this total, approximately 3,000 m³ and less than one million curies are estimated to be GTCC-like waste. Approximately ten percent of the total estimated inventory volume of GTCC LLRW and GTCC-like waste is currently in storage, while approximately 90 percent is expected to be generated in the future.

GTCC LLRW and GTCC-like waste, for purposes of the Final EIS, are categorized into three waste types: activated metals, sealed sources, and other waste. Activated metals are largely generated from the decommissioning of nuclear reactors. They include portions of the nuclear reactor vessel, such as the core shroud and core support plate. Activated metals wastes represent approximately 17 percent of the total inventory volume and approximately 98 percent of the radioactivity from GTCC LLRW and GTCC-like waste. Most of the activated metals will not be generated for several decades, when the majority of the currently operating reactors are scheduled to undergo decommissioning.

Sealed sources are widely used for medical purposes, such as in equipment to diagnose and treat illnesses (particularly cancer), sterilize medical devices, and irradiate blood for transplant patients; and for industrial purposes, such as nondestructive testing of structures and industrial equipment and exploration of geologic formations for oil and gas. They are located in hospitals, universities, and industries throughout the U.S. Sealed sources represent approximately 25 percent of the total inventory volume and approximately one percent of the total radioactivity from GTCC LLRW and GTCC-like waste.

Other waste primarily includes contaminated equipment, debris, scrap metal, resins, and solidified sludges. These wastes are associated with the production of molybdenum-99, which is used in about 16 million medical procedures (e.g., to detect cancer) each year; the production of radioisotope power systems in support of space exploration (e.g. from the plutonium-238 production project) and national security; and the environmental cleanup of the West Valley Demonstration Project site in New York. Other waste represents approximately 58 percent of the total inventory volume and approximately one percent of the radioactivity from GTCC and GTCC-like wastes.

Disposal Alternatives Evaluated

The Final EIS evaluates a range of reasonable alternatives for the disposal of GTCC LLRW and GTCC-like waste including:

1. No Action, as required by NEPA;

2. Disposal in the WIPP geologic repository in New Mexico;

3. Disposal in a new intermediate-depth borehole disposal facility at the Hanford Site in Washington, the Idaho National Laboratory in Idaho, the Los Alamos National Laboratory and WIPP Vicinity in New Mexico, the Nevada National Security Site (formerly known as the Nevada Test Site) in Nevada and generic commercial sites in four regions of the U.S.; and

4. Disposal in a new enhanced near-surface trench disposal facility at the Hanford, the Idaho National Laboratory, the Los Alamos National Laboratory and the WIPP, the Nevada National Security Site, Savannah River Site in South Carolina, and generic commercial sites; and

5. Disposal in a new above-grade vault disposal facility at the Hanford, the Idaho National Laboratory, the Los Alamos National Laboratory and the WIPP, the Nevada National Security Site, Savannah River Site in South Carolina, as well as at generic commercial facilities.

Responses to Public Comment

The Final EIS includes a Comment Response Document that includes all comments received on the Draft EIS as well as DOE's detailed responses to the individual comments. DOE received a total of 1,196 comment records, which accounted for 3,982 individual comments. Of the 1,196 comment records received, 154 were from organizations or federal or state agencies; 495 were from private citizens; and 547 were campaign letters, emails, or web comments received from six organizations. All comments received on the Draft EIS were considered by DOE in the preparation of this Final GTCC EIS.

Preferred Alternative

Given the diverse characteristics (e.g., different radionuclide inventories, range of physical conditions, and derived from both commercial and DOE sources) of GTCC and GTCC-like waste analyzed in this Final EIS, the preferred alternative selected is not limited to one disposal technology. The preferred alternative for the disposal of GTCC and GTCC-like waste is the WIPP geologic repository and/or land disposal at generic commercial facilities. These land disposal conceptual designs may be altered or enhanced, as necessary, to provide the optimal application at a given location. For generic commercial facilities, the preferred alternative does not include land disposal at DOE sites. In addition, there is presently no preference among the three land disposal technologies at the generic commercial sites. The factors considered during the development of the preferred alternative include public comment provided on the Draft EIS; disposal site impacts including potential human health impacts, cultural resources and tribal concerns; waste types impacts including radionuclide inventory and characteristics and availability for disposal; and disposal method impacts including inadvertent human intrusion, construction and operation and cost. The analysis in this Final GTCC EIS has provided the Department with the integrated insight needed to identify a preferred alternative with the potential to enable the disposal of the entire waste inventory analyzed in this EIS. The Department has determined that the preferred alternative would satisfy the needs of the Department for the disposal of GTCC and GTCC-like waste.

Next Steps

Following the issuance of the Final GTCC EIS and in accordance with the Energy Policy Act of 2005 (Pub. L. 109-58), DOE will submit a Report to Congress on GTCC, and await Congressional Action. The Report to Congress must include all GTCC disposal alternatives under consideration. Once Congressional Action has occurred, DOE may then issue a Record of Decision in the Federal Register and implement the disposal alternative(s).

Public Reading Rooms and Libraries

Copies of the Final EIS are available for public review at the locations listed below:

District of Columbia

U.S. Department of Energy, Freedom of Information Act Public Reading Room, 1000 Independence Avenue SW., Room 1G-033, Washington, DC 20585, (202) 586-5955.

Idaho

U.S. Department of Energy, Public Reading Room, 1776 Science Center Drive, Idaho Falls, ID 83401, (208) 526-0833.

Nevada

Nevada Site Office, U.S. Department of Energy, Public Reading Room, 755 East Flamingo Road, Room 103, Las Vegas, NV 89119, (702) 794-5106.

Amargosa Valley Library, 829 E. Farm Road, Amargosa, NV 89020, (775) 372-5340.

Clark County Library, 1401 E. Flamingo Road, Las Vegas, NV 89119, (702) 507-3400.

Indian Springs Library, 715 Gretta Lane, Indian Springs, NV 89018, (702) 879-3845.

Las Vegas Library, 833 N. Las Vegas Boulevard, Las Vegas, NV 89101, (702) 507-3500.

Pahrump Community Library, 701 S. East Street, Pahrump, NV 89048, (775) 727-5930.

Tonopah Public Library, 167 S. Central Street, Tonopah, NV 89049, (775) 482-3374.

New Mexico

DOE FOIA Reading Room, Government Information/Zimmerman Library, University of New Mexico, MSC05 3020, 1 University of New Mexico, Albuquerque, NM 87131-0001, (505) 277-7180.

Carlsbad Field Office, U.S. Department of Energy, WIPP Information Center, 4021 National Parks Highway, Carlsbad, NM 88220, (575) 234-7348 or (800) 336-9477.

Carlsbad Public Library, 101 South Halagueno Street, Carlsbad, NM 88220, (575) 885-6776.

Eunice Public Library, 1039 10th Street, Eunice, NM 88231, (575) 394-2336.

Española Public Library, 313 N Paseo de Oñate, Española, NM 87532, (505) 747-6087.

Mesa Public Library, 2400 Central Avenue, Los Alamos, NM 87544, (505) 662-8250.

Santa Fe Public Library, 145 Washington Street, Santa Fe, NM 87501, (505) 955-6780.

Santa Fe Public Library, Oliver La Farge Branch, 1730 Llano Street, Santa Fe, NM 87501, (505) 955-4860.

New Mexico State Library, 1209 Camino Carlos Rey, Santa Fe, NM 87507, (505) 476-9717.

Los Alamos National Laboratory, Public Reading Room, P.O. Box 1663, Mail Stop M9991, Los Alamos, NM 87545, Phone: (505) 667-0216.

J. Robert Oppenheimer Study Ctr & Res Library, Technical Area 3, Building 207, Los Alamos National Laboratory, Los Alamos, NM 87545.

Oregon

Portland State University, Government Information, Branford Price Millar Library, 1875 SW Park Avenue, Portland, OR 97201, (503) 725-5874.

South Carolina

University of South Carolina—Aiken, Gregg-Graniteville Library, 471 University Parkway, Aiken, SC 29801, (803) 641-3320.

South Carolina State Library, 1500 Senate Street, Columbia, SC 29211, (803) 734-8026.

Washington

U.S. Department of Energy, Public Reading Room, Consolidated Information Center, 2770 University Drive, Room 101L, Richland, WA 99352, (509) 372-7443.

University of Washington, Suzzallo-Allen Library, Government Publications Division, Seattle, WA 98195, (206) 543-1937.

Gonzaga University, Foley Center Library, 101-L 502 East Boone Avenue, Spokane, WA 99258, (509) 313-5931.

Issued in Washington, DC, on February 19, 2016.
Mark Senderling,
Director, Office of Disposition Planning & Policy, Office of Environmental Management, U.S. Department of Energy.

[FR Doc. 2016-04731 Filed 3-3-16; 8:45 am]

BILLING CODE 6450-01-P